DEPARTMENT OF ENERGY

Federal Energy Regulatory Commission

[Docket Nos. ER06-615-000; ER07-1257-000; ER08-1113-000; ER08-1178-000; ER09-241-000]

California Independent System Operator Corporation; Notice of FERC Staff Attendance

May 11, 2009.

The Federal Energy Regulatory Commission (Commission) hereby gives notice that on the following dates members of its staff will participate in teleconferences and meetings to be conducted by the California Independent System Operator (CAISO). The agenda and other documents for the teleconferences and meetings are available on the CAISO's Web site, http://www.caiso.com.

May 13, 2009: Exceptional Dispatch

May 18, 2009: Board of Governors Meeting

May 19, 2009: Systems Interface User Group

May 20, 2009: Settlements and Market Clearing User Group Congestion Revenue Rights

May 21, 2009: Payment Acceleration

May 22, 2009: Participating Intermittent Resource Program

May 26, 2009: Systems Interface User Group BPM Change Management Meeting

May 27, 2009: Settlements and Market Clearing User Group Congestion Revenue Rights

May 28, 2009: Payment Default Allocation Meeting

Sponsored by the CAISO, the teleconferences and meetings are open to all market participants, and staff's attendance is part of the Commission's ongoing outreach efforts. The teleconferences and meetings may discuss matters at issue in the above captioned dockets.

For further information, contact Saeed Farrokhpay at saeed.farrokhpay@ferc.gov; (916) 294-0322 or Maury Kruth at maury.kruth@ferc.gov, (916) 294-0275.

Kimberly D. Bose,
Secretary.

[FR Doc. E9-11463 Filed 5-15-09; 8:45 am]

BILLING CODE 6717-01-P